GENERAL SERVICES ADMINISTRATION

[Notice-CX-2020-01; Docket No. 2020-0002; Sequence No. 8]

Office of Human Resources Management; SES Performance Review Board

AGENCY: Office of Human Resources Management (OHRM), General Services Administration (GSA).

ACTION: Notice.

SUMMARY: Notice is hereby given of the appointment of new members to the General Services Administration Senior Executive Service Performance Review Board. The Performance Review Board assures consistency, stability, and objectivity in the performance appraisal process.

DATES: Applicable: February 28, 2020.

FOR FURTHER INFORMATION CONTACT: Ms. Shonna James, Director, Executive Resources HR Services Center, Office of Human Resources Management, General Services Administration, 1800 F Street NW, Washington, DC 20405, 202-230-7005.

SUPPLEMENTARY INFORMATION: Section 4314 (c) (1) through (5) of title 5 U.S.C requires each agency to establish, in accordance with regulation prescribed by the Office of Personnel Management, one or more SES performance review board(s). The board is responsible for making recommendations to the appointing and awarding authority on the performance appraisal ratings and performance awards for employees in the Senior Executive Service.

The following have been designated as members of the Performance Review Board of GSA:

• Allison Azevedo, Acting Deputy Commissioner, Public Buildings Service.

• Allison Brigati, Deputy Administrator—PRB Chair.

• Giancarlo Brizzi, Regional Commissioner, Public Buildings Service, Greater Southwest Region.

• Tiffany Hixson, Regional Commissioner, Federal Acquisition Service, Northwest, Arctic Region.

• Thomas Howder, Deputy Commissioner, Federal Acquisition Service.

• Merrick Krause, Acting Chief Human Capital Officer, Office of Human Resources Management.

• Jeffrey Lau, Regional Commissioner, Federal Acquisition Service, Northeast and Caribbean Region.

• Jessica Salmoiraghi, Associate Administrator for Governmentwide Policy.

• Jack St. John, General Counsel.

Dated: February 21, 2020.
Emily W. Murphy,
Administrator, General Services Administration.

[FR Doc. 2020-04105 Filed 2-27-20; 8:45 am]

BILLING CODE 6820-FM-P